ENVIRONMENTAL PROTECTION AGENCY

[FRL-7015-5]

Integrated Risk Information System (IRIS); Notice; Request for Information

AGENCY: Environmental Protection Agency (EPA).

ACTION: Notice; administrative changes in the Integrated Risk Information System.

SUMMARY: IRIS is an EPA data base that contains EPA scientific consensus positions on human health effects that may result from chronic exposure to chemical substances in the environment. In this action, EPA is announcing an upcoming change to the location and phone number of EPA's contractor-operated IRIS hotline and publically-accessible records center, and a redesign of the IRIS web site, available for public view and comment.

DATES: Comments should be submitted by September 18, 2001.

ADDRESSES: Comments on the redesigned web site should be made to the IRIS webmaster via the questionnaire on line at www.epa.gov/iris/whatsnew.htm. Comments on the web site may also be mailed to the IRIS Submission Desk, c/o Courtney R. Johnson, U.S. Environmental Protection Agency, (8601D), 1200 Pennsylvania Avenue, N.W., Washington, DC 20460.

FOR FURTHER INFORMATION CONTACT: For general information on the IRIS program, contact Amy Mills (Mail Code 8601D), U.S. Environmental Protection Agency, 1200 Pennsylvania Avenue, NW., Washington, DC 20460, or call (202) 564-3204, or send electronic mail inquiries to mills.amy@epa.gov.

SUPPLEMENTARY INFORMATION:

Background

IRIS is an EPA data base containing Agency consensus scientific positions on potential adverse human health effects that may result from chronic (or lifetime) exposure to chemical substances found in the environment. IRIS currently provides health effects information on over 500 specific chemical substances. A companion Federal Register notice today provides additional background on the IRIS program and data base, and requests public comment on which substances to add or update.

EPA has provided outreach to facilitate the use and understanding of the data base. These efforts include a telephone hotline (513-569-7254) which provides answers to public inquiries about access to IRIS, the content of specific IRIS health assessments, and risk assessment methodologies. EPA also operates a reading room (located in EPA's Andrew W. Breidenbach Environmental Research Center, 26 West Martin Luther King Dr., Cincinnati, OH) where the public may, by appointment, view background files supporting IRIS assessments. Further, EPA provides IRIS on the Internet for public access at www.epa.gov/iris.

Today's Actions

(1) EPA is moving the hotline function and reading room to the Washington, DC area. The hotline will be accessed via a new phone number, fax number, and email address. This information will be shown on the IRIS web site (www.epa.gov/iris) no later than September 30, 2001. The address of the new reading room will be provided concurrently on the IRIS web site.

(2) In response to user requests, EPA has undertaken a redesign of the IRIS web site. This change does not involve a change to the scientific content of IRIS; rather, it presents the data base in a more easily navigable and searchable format. The new redesign will be available by August 1, 2001, for public view and comment for 60 days. It will be accessible from the IRIS web site at www.epa.gov/iris. EPA invites IRIS users to visit the new site and provide feedback to several questions posted. After the test period ends and all comments are considered, EPA plans to replace the current web site with the redesigned site.

Dated: July 10, 2001.
George W. Alapas,
Acting Director, National Center for Environmental Assessment.

[FR Doc. 01-18197 Filed 7-19-01; 8:45 am]

BILLING CODE 6560-50-P